DEPARTMENT OF AGRICULTURE

Forest Service

Notice of Meeting; Siskiyou Resource Advisory Committee (RAC)

SUMMARY: The Siskiyou Resource Advisory Committee (RAC) will meet on Wednesday, June 4, 2003. The meeting is scheduled to begin at 8 a.m. and conclude at approximately 5 p.m. The meeting will be held at Options for Southern Oregon, 1215 SW., “G” Street, Grants Pass, Oregon. The tentative agenda for June 4, 2003 includes: (1) Budget Proposal for FY04, (2) Election of Chairperson, (3) Review of FY02 and FY03 Project Status, (4) Project Recommendations of FY04 Proposals and (5) Public Forum. The public forum is tentatively scheduled to begin at 11 a.m. Time allotted for individual presentations will be limited to 3-4 minutes. Written comments may be submitted prior to the June 4 meeting by sending them to the Designated Federal Official, Scott D. Conroy, at the address given below.

FOR FURTHER INFORMATION CONTACT: Designated Federal Official Scott D. Conroy; Rogue and Siskiyou National Forests; P.O. Box 520, Medford, Oregon 97501; (541) 858-2200.

Dated: April 28, 2003.
Scott D. Conroy,
Forest Supervisor, Rogue River and Siskiyou National Forests.

[FR Doc. 03-11137 Filed 5-5-03; 8:45 am]

BILLING CODE 3410-11-M